DEPARTMENT OF ENERGY

Federal Energy Regulatory Commission

[Docket No. EC00-138-000, et al.]

Sithe Energies, Inc., et al. Electric Rate and Corporate Regulation Filings

September 29, 2000.

Take notice that the following filings have been made with the Commission:

1. Sithe Energies, Inc. and the Sithe Stockholders, Exelon (Fossil) Holdings, Inc., PECO Energy Company, and Exelon Generation Company, L.L.C.

[Docket No. EC00-138-000]

Take notice that on September 22, 2000, and September 26, 2000, Sithe Energies, Inc. and the Sithe Stockholders, Exelon (Fossil) Holdings, Inc., PECO Energy Company and Exelon Generation Company, L.L.C. (collectively, Applicants) filed supplements to their September 13, 2000, application (initial application) in this proceeding. The September 22, 2000, supplement is an errata correcting corporate structure charts that were included in Attachment B of the initial application. The September 26, 2000, supplement is the Sithe Energies, Inc. and Exelon (Fossil) Holdings, Inc. Joint Petition for Approval to Transfer Stock, which was filed with the New York Public Service Commission on September 14, 2000, and that relates to the transaction for which authorization is sought in the Docket No. EC00-138-000 proceeding.

Comment date: October 16, 2000, in accordance with Standard Paragraph E at the end of this notice.

2. ISO New England Inc.

[Docket No. EL00-62-011]

Take notice that on September 26, 2000, the New England Power Pool (NEPOOL) Participants Committee submitted the Sixty-Fifth Agreement Amending the Restated NEPOOL Agreement and the Sixty-Sixth Agreement Amending the Restated NEPOOL Agreement in response to the 90-day compliance requirements of the Commission's June 28, 2000 order in Docket Nos. EL00-62-000 et al., ISO New England Inc., 91 FERC ¶ 61,311 (2000) concerning the implementation of a congestion management system and multi-settlement system. In accordance with the requirements of the Commission's June 28, 2000 order, NEPOOL has noted an effective date of September 26, 2000, or such other date as the Commission deems appropriate.

The NEPOOL Participants Committee states that copies of these materials were sent to all persons identified on the service lists in the captioned proceedings, the NEPOOL Participants, non-Participant Transmission Customers and the six New England state governors and regulatory commissions.

Comment date: October 26, 2000, in accordance with Standard Paragraph E at the end of this notice.

3. ISO New England Inc.

[Docket No. EL00-62-012]

Take notice that on September 26, 2000, ISO New England Inc. submitted a Report of Compliance in response to the Commission's June 28, 2000 Order in this proceeding.

Copies of said filing have been served upon all parties to this proceeding, upon NEPOOL Participants, and upon all non-Participant entities that are customers under the NEPOOL Open Access Transmission Tariff, as well as upon the utility regulatory agencies of the six New England States.

Comment date: October 26, 2000, in accordance with Standard Paragraph E at the end of this notice.

4. Unitil Power Corporation, Unitil Resources, Inc., and Fitchburg Gas and Electric Light Company

[Docket Nos. ER97-2460-006, ER97-2462-011, and ER97-2463-001]

Take notice that on September 25, 2000, Unitil Power Corp., Unitil Resources, Inc., and Fitchburg Gas and Electric Light Company (Unitil Companies) tendered for filing pursuant to Ordering Paragraph (J), Unitil Power Corporation et al., 80 FERC ¶ 61,358 (1997) (Unitil) an updated generation market analysis.

The Unitil Companies indicate that a copy of this filing was served on the Massachusetts Department of Telecommunications and Energy and the New Hampshire Public Utilities Commission.

Comment date: October 16, 2000, in accordance with Standard Paragraph E at the end of this notice.

5. San Diego Gas & Electric Company

[Docket Nos. ER98-496-013 and ER98-2160-011]

Take notice that on September 25, 2000, Cabrillo Power I LLC and Cabrillo Power II LLC tendered for filing their refund compliance reports in the above-captioned dockets.

The compliance reports have been served on the California ISO, SDG&E, the EOB, the CPUC and all parties on the restricted service list.

Comment date: October 16, 2000, in accordance with Standard Paragraph E at the end of this notice.

6. Allegheny Energy Service Corporation, on behalf of Monongahela Power Company, The Potomac Edison Company, and West Penn Power Company (Allegheny Power)

[Docket No. ER00-3588-001]

Take notice that on September 26, 2000, Allegheny Energy Service Corporation on behalf of Monongahela Power Company, The Potomac Edison Company, and West Penn Power Company (Allegheny Power), filed First Revised Service Agreement No. 324, which makes several technical corrections to Service Agreement No. 324, an Interconnection Agreement (Agreement) with Allegheny Energy Supply Company, LLC under Allegheny Power's Open Access Transmission Tariff.

The proposed effective date under the Agreement is September 1, 2000 or a date ordered by the Commission.

Copies of the filing have been provided to the Public Utilities Commission of Ohio, the Pennsylvania Public Utility Commission, the Maryland Public Service Commission, the Virginia State Corporation Commission, and the West Virginia Public Service Commission.

Comment date: October 17, 2000, in accordance with Standard Paragraph E at the end of this notice.

7. Cinergy Services, Inc.

[Docket No. ER00-3753-000]

Take notice that on September 26, 2000, Cinergy Services, Inc. (Cinergy) tendered for filing with the Federal Energy Regulatory Commission (Commission) a Market-Based Service Agreement under Cinergy's Market-Based Power Sales Standard Tariff-MB (the Tariff) entered into between Cinergy and Conectiv Energy Supply, Inc. (CESI).

Cinergy and CESI are requesting an effective date of June 1, 2000.

Comment date: October 17, 2000, in accordance with Standard Paragraph E at the end of this notice.

8. New England Power Pool

[Docket No. ER00-3754-000]

Take notice that on September 26, 2000, the New England Power Pool (NEPOOL) Participants Committee filed for acceptance materials to permit NEPOOL to expand its membership to include Public Service Company of Colorado and Westcoast Gas Services Delaware (America) Inc. (together, the Applicants).

The Participants Committee requests an effective date of October 1, 2000 for commencement of participation in NEPOOL by the Applicants.

The Participants Committee states that copies of these materials were sent to the New England state governors and regulatory commissions and the Participants in NEPOOL.

Comment date: October 17, 2000, in accordance with Standard Paragraph E at the end of this notice.

9. Allegheny Energy Service Corporation on behalf of Allegheny Energy Supply Company, LLC

[Docket No. ER00-3755-000]

Take notice that on September 26, 2000, Allegheny Energy Service Corporation on behalf of Allegheny Energy Supply Company, LLC (Allegheny Energy Supply) filed Service Agreement No. 95 to add one (1) new Customer to the Market Rate Tariff under which Allegheny Energy Supply offers generation services.

Allegheny Energy Supply requests a waiver of notice requirements for an effective date of August 28, 2000 for TransAlta Energy Marketing (U.S.) Inc.

Copies of the filing have been provided to the Public Utilities Commission of Ohio, the Pennsylvania Public Utility Commission, the Maryland Public Service Commission, the Virginia State Corporation Commission, the West Virginia Public Service Commission, and all parties of record.

Comment date: October 17, 2000, in accordance with Standard Paragraph E at the end of this notice.

10. Public Service Company of New Mexico

[Docket No. ER00-3756-000]

Take notice that on September 26, 2000, Public Service Company of New Mexico (PNM) submitted for filing executed service agreements for point to point transmission service under the terms of PNM's Open Access Transmission Tariff (OATT). Two agreements are with OGE Energy Resources Inc, (one for non-firm service and one for short-term firm service), dated September 22, 2000. The other agreement, dated August 22, 2000, is for short-term firm service with Western Resources Generation Services. PNM's filing is available for public inspection at its offices in Albuquerque, New Mexico.

PNM requests an effective date of September 22, 2000, for each of the service agreements.

Copies of the filing have been sent to OGE Energy Resources, Inc., to Western Resources Generation Services, and to the New Mexico Public Regulation Commission.

Comment date: October 17, 2000, in accordance with Standard Paragraph E at the end of this notice.

11. American Electric Power Service Corporation

[Docket No. ER00-3757-000]

Take notice that on September 26, 2000, the American Electric Power Service Corporation (AEPSC) tendered for filing executed Interconnection and Operation Agreement between Ohio Power Company and Duke Energy Washington, LLC. The agreement is pursuant to the AEP Companies' Open Access Transmission Service Tariff (OATT) that has been designated as the Operating Companies of the American Electric Power System FERC Electric Tariff Revised Volume No. 6, effective June 15, 2000.

AEP requests an effective date of August 7, 2000.

A copy of the filing was served upon the Public Utilities Commission of Ohio.

Comment date: October 17, 2000, in accordance with Standard Paragraph E at the end of this notice.

12. Southern Company Energy Marketing L.P., Southern Energy Chalk Point, LLC, Southern Energy Mid-Atlantic, LLC, Southern Energy Peaker, LLC, Southern Energy Potomac River, LLC

[Docket No. ER00-3760-000]

Take notice that on September 25, 2000, Southern Company Energy Marketing L.P., Southern Energy Chalk Point, LLC, Southern Energy Mid-Atlantic, LLC, Southern Energy Peaker, LLC, and Southern Energy Potomac River, LLC (collectively, the Southern Parties) jointly filed under Section 205 of the Federal Power Act an application requesting approval of their respective proposed Market Rate Tariffs, waiver of certain regulations, and blanket approvals. The proposed Market Rate Tariffs would authorize each of the Southern Parties to engage in wholesale sales of capacity and energy and ancillary services to eligible customers at market rates.

Comment date: October 17, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-25613 Filed 10-4-00; 8:45 am]

BILLING CODE 6717-01-P